DEPARTMENT OF VETERANS AFFAIRS

Veterans' Family, Caregiver, and Survivor Advisory Committee; Notice of Meeting

The Department of Veterans Affairs (VA) gives notice under the Federal Advisory Committee Act that the Veterans' Family, Caregiver, and Survivor Advisory Committee will meet on March 1-2, 2018. On March 1, the Committee will meet in open session at 11301 Wilshire Boulevard, Building 500, Room 1281, Los Angeles, CA, from 9:00 a.m. to 5:00 p.m. On March 2, the Committee will be touring the VA facility and breaking into small groups to participate in discussions and listening sessions with facility staff, families, caregivers, and survivors. Tours of VA facilities are closed, to protect from disclosure Veterans' information the disclosure of which would constitute a clearly unwarranted invasion of personal privacy. Therefore, on March 2, the meeting will be closed to the public.

The purpose of the Committee is to advise the Secretary of Veterans Affairs on matters related to: Veterans' families, caregivers, and survivors across all generations, relationships, and Veterans status; the use of VA care and benefits services by Veterans' families, caregivers, and survivors, and possible expansion of such care and benefits services; Veterans' family, caregiver, and survivor experiences; VA policies, regulations, and administrative requirements related to the transition of Servicemembers from the Department of Defense (DoD) to enrollment in VA that impact Veterans' families, caregivers, and survivors; and factors that influence access to, quality of, and accountability for services and benefits for Veterans' families, caregivers, and survivors.

On March 1, the agenda will include information briefings on VA's Veterans Experience Office, Caregiver Support Office, VA's Choose Home Initiative, and community partners. The Committee's subcommittees on Education and Awareness, Access and Eligibility, and Gaps and Innovation will report out on activities since the last meeting. Public comments will be received at 4:15 p.m. on March 1, 2018.

Individuals wishing to make a public comment should contact Laureen Barone at laureen.barone@va.gov and are requested to submit a 1-2 page summary of their comments for inclusion in the official meeting record. In the interest of time, each speaker will be held to a 5 minute time limit.

Any member of the public seeking additional information should contact Ms. Barone at (716) 364-3639 or at laureen.barone@va.gov.

Dated: January 31, 2018.
Jelessa M. Burney,
Federal Advisory Committee Management Officer.

[FR Doc. 2018-02186 Filed 2-2-18; 8:45 am]

BILLING CODE P